COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) from the Procurement List that were furnished by nonprofit agencies employing persons who are blind or have other severe disabilities.

DATES: Date deleted from the Procurement List: March 14, 2021.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 1/8/2021, the Committee for Purchase From People Who Are Blind or Severely Disabled published notice of proposed deletions from the Procurement List. This notice is published pursuant to 41 U.S.C. 8503 (a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Product(s)

NSN(s)—Product Name(s):

7210-01-030-5311—Pillowcase, 32½″ x 20½″

7210-00-119-7357—Pillowcase, 32½″ x 20 ½″, White

Designated Source of Supply: Cambria County Association for the Blind and Handicapped, Johnstown, PA

Contracting Activity: DLA TROOP SUPPORT, PHILADELPHIA, PA

NSN(s)—Product Name(s):

8465-01-647-6670—US Forest Service Pack, Personal Gear Model 2014

Designated Source of Supply: Huntsville Rehabilitation Foundation, Huntsville, AL

Contracting Activity: DLA TROOP SUPPORT, PHILADELPHIA, PA

NSN(s)—Product Name(s):

6150-01-040-6848—Kit, Wiring, ATON Buoy

Designated Source of Supply: Greenville Rehabilitation Center, Greenville, SC

Contracting Activity: SFLC PROCUREMENT BRANCH 3, BALTIMORE, MD

NSN(s)—Product Name(s):

7910-00-NIB-0006—Pad, Floor, Burnishing, Animal Hair, Gray, 17″

7910-00-NIB-0009—Pad, Floor, Burnishing, Animal Hair, Gray, 21″

7910-00-NIB-0016—Pad, Floor, Polishing, Animal Hair, Beige, 17″

7910-00-NIB-0029—Pad, Floor, Buffing, Polyester, Red, 14″

7910-00-NIB-0030—Pad, Floor, Buffing, Polyester, Red, 15″

7910-00-NIB-0034—Pad, Floor, Scrubbing, Polyester, Blue, 14″

7910-00-NIB-0040—Pad, Floor, Scrubbing, Polyester, Blue, 21″

7910-01-512-5933—Pad, Floor, Stripping, Polyester, Brown, 17″

7910-01-512-5937—Pad, Floor, Scrubbing, Polyester, Blue, 13″

7910-01-512-5950—Pad, Floor, Scrubbing, Polyester, Blue, 17″

Designated Source of Supply: Beacon Lighthouse, Inc., Wichita Falls, TX

Contracting Activity: GSA/FSS GREATER SOUTHWEST ACQUISITI, FORT WORTH, TX

NSN(s)—Product Name(s):

7910-00-820-7989—Pad, Floor, Buffing, Nylon, Tan, 15″

Designated Source of Supply: Beacon Lighthouse, Inc., Wichita Falls, TX

Contracting Activity: GSA/FSS GREATER SOUTHWEST ACQUISITI, FORT WORTH, TX

NSN(s)—Product Name(s):

7910-00-685-3908—Pad, Machine, Polishing, Floor, 14″ x ¼″

7910-00-685-3909—Pad, Machine, Polishing, Floor, 16″ x ¼″

7910-00-685-3914—Pad, Machine, Scrubbing, Floor, 18″ x ¼″

7910-00-685-3915—Pad, Machine, Scrubbing, Floor, 16″ x ¼″

7910-00-685-4239—Pad, Machine, Stripping, Floor, 12″ x ¼″

7910-00-685-6656—Pad, Machine, Scrubbing, Floor, 12″ x ¼″

7910-00-685-6657—Pad, Machine, Scrubbing, Floor, 13″ x ¼″

7910-00-685-6659—Pad, Machine, Scrubbing, Floor, 15″ x ¼″

7910-00-685-6660—Pad, Machine, Scrubbing, Floor, 17″ x ¼″

7910-00-685-6671—Pad, Machine, Polishing, Floor, 15″ x ¼″

7910-00-685-6672—Pad, Machine, Polishing, Floor, 17″ x ¼″

7910-00-685-6686—Pad, Machine, Polishing, Floor, 12″ x ¼″

7910-00-685-6687—Pad, Machine, Polishing, Floor, 13″ x ¼″

Designated Source of Supply: Beacon Lighthouse, Inc., Wichita Falls, TX

Contracting Activity: GSA/FSS GREATER SOUTHWEST ACQUISITI, FORT WORTH, TX

Michael R. Jurkowski,
Deputy Director, Business & PL Operations.

[FR Doc. 2021-02936 Filed 2-11-21; 8:45 am]

BILLING CODE 6353-01-P